EXPORT-IMPORT BANK

Updated Intent To Conduct a Detailed Economic Impact Analysis

AGENCY: Export-Import Bank.

ACTION: Notice.

SUMMARY: This notice is to inform the public that the Export-Import Bank of the United States has received a request to increase the financed amount for a previously notified application (FR Doc. 2022-13827). The application is now for a $743 million direct loan to support the export of approximately $439 million worth of U.S. engineering services, design services, licenses, catalysts, and refining equipment. The U.S. goods and services will be exported to Malaysia and establish production capacity of refined petrochemicals. There has been no significant change in the expected output of the facility, and the supported U.S. exports will enable the facility to produce 725 thousand metric tons per year of jet fuel, 894 thousand metric tons per year of light naphtha, 432 thousand metric tons per year of low sulfur fuel oil, 1.83 million metric tons per year of paraxylene, and 632 thousand metric tons per year of benzene. Production of paraxylene and benzene will primarily be sold to East Asia, while production of jet fuel, light naphtha, low sulfur fuel oil will primarily be sold regionally in Southeast Asia.

DATES: Comments are due 14 days from publication in the Federal Register.

ADDRESSES: Interested parties may submit comments on this transaction electronically on www.regulations.gov, or by email to economic.impact@exim.gov.

Scott Condren,
Vice President, Policy Analysis Division, Office of Policy Analysis and International Relations.

[FR Doc. 2024-03249 Filed 2-15-24; 8:45 am]

BILLING CODE 6690-01-P